DEPARTMENT OF TRANSPORTATION

Federal Aviation Administration

14 CFR Part 39

[Docket No. FAA-2016-9189; Product Identifier 2016-NM-114-AD]

RIN 2120-AA64

Airworthiness Directives; The Boeing Company Airplanes

AGENCY: Federal Aviation Administration (FAA), DOT.

ACTION: Supplemental notice of proposed rulemaking (SNPRM); reopening of comment period.

SUMMARY: We are revising an earlier proposal for certain The Boeing Company Model 737-600, -700, -700C, -800, -900, and -900ER series airplanes. This action revises the notice of proposed rulemaking (NPRM) by adding airplanes to the applicability and adding a measurement of the distance between the hooks of the torsion spring of the lanyard assembly. We are proposing this airworthiness directive (AD) to address the unsafe condition on these products. Since these actions would impose an additional burden over those in the NPRM, we are reopening the comment period to allow the public the chance to comment on these changes.

DATES: The comment period for the NPRM published in the Federal Register on October 13, 2016 (81 FR 70647), is reopened.

We must receive comments on this SNPRM by October 29, 2018.

ADDRESSES: You may send comments, using the procedures found in 14 CFR 11.43 and 11.45, by any of the following methods:

• Federal eRulemaking Portal: Go to http://www.regulations.gov. Follow the instructions for submitting comments.

• Fax: 202-493-2251.

• Mail: U.S. Department of Transportation, Docket Operations,M-30, West Building Ground Floor, Room W12-140, 1200 New Jersey Avenue SE, Washington, DC 20590.

• Hand Delivery: U.S. Department of Transportation, Docket Operations, M-30, West Building Ground Floor, Room W12-140, 1200 New Jersey Avenue SE, Washington, DC 20590, between 9 a.m. and 5 p.m., Monday through Friday, except Federal holidays.

For service information identified in this SNPRM, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195. It is also available on the internet at http://www.regulations.gov by searching for and locating Docket No. FAA-2016-9189.

Examining the AD Docket

You may examine the AD docket on the internet at http://www.regulations.gov by searching for and locating Docket No. FAA-2016-9189; or in person at Docket Operations between 9 a.m. and 5 p.m., Monday through Friday, except Federal holidays. The AD docket contains this SNPRM, the regulatory evaluation, any comments received, and other information. The street address for Docket Operations (phone: 800-647-5527) is in the ADDRESSES section. Comments will be available in the AD docket shortly after receipt.

FOR FURTHER INFORMATION CONTACT: Scott Craig, Aerospace Engineer, Cabin Safety and Environmental Systems Section, FAA, Seattle ACO Branch, 2200 South 216th St., Des Moines, WA 98198; phone and fax: 206-231-3566; email: michael.s.craig@faa.gov.

SUPPLEMENTARY INFORMATION:

Comments Invited

We invite you to send any written relevant data, views, or arguments about this proposal. Send your comments to an address listed under the ADDRESSES section. Include “Docket No. FAA-2016-9189; Product Identifier 2016-NM-114-AD” at the beginning of your comments. We specifically invite comments on the overall regulatory, economic, environmental, and energy aspects of this SNPRM. We will consider all comments received by the closing date and may amend this SNPRM because of those comments.

We will post all comments we receive, without change, to http://www.regulations.gov, including any personal information you provide. We will also post a report summarizing each substantive verbal contact we receive about this SNPRM.

Discussion

We issued an NPRM to amend 14 CFR part 39 by adding an AD that would apply to certain The Boeing Company Model 737-600, -700, -700C, -800, -900, and -900ER series airplanes. The NPRM published in the Federal Register on October 13, 2016 (81 FR 70647). The NPRM was prompted by reports of passenger service units (PSUs) becoming detached from the supporting airplane structure in several Model 737 airplanes during survivable accidents. The NPRM proposed to require modifying the PSUs and life vest panels by replacing the existing inboard lanyard and installing two new lanyards on the outboard edge of the PSUs and life vest panels.

Actions Since the NPRM Was Issued

Since we issued the NPRM, we have determined that additional airplanes are subject to the unsafe condition. In addition, we have determined that the torsion spring of a certain lanyard assembly may be manufactured incorrectly and have an inadequate distance between the hooks of the torsion spring. Since the discrepant torsion springs may have been installed in production, as well as on airplanes modified in accordance with Boeing Service Bulletin 737-25-1707, dated September 24, 2015, we have determined that it is necessary to measure the distance between the hooks of the torsion spring of the lanyard assembly and replace discrepant lanyard assemblies.

Comments

We gave the public the opportunity to comment on the NPRM. The following presents the comments received on the NPRM and the FAA's response to each comment.

Support for the NPRM

The National Transportation Safety Board (NTSB) and commenter London Smith expressed their support for the NPRM.

Effect of Winglets on Accomplishment of the Proposed Actions

Aviation Partners Boeing stated that the installation of winglets per Supplemental Type Certificate (STC) ST00830SE does not affect the accomplishment of the manufacturer's service instructions.

We agree with the commenter that STC ST00830SE does not affect the accomplishment of the manufacturer's service instructions. Therefore, the installation of STC ST00830SE does not affect the ability to accomplish the actions that would be required by this SNPRM. We have not changed this SNPRM in this regard.

Request To Extend the Compliance Time

Japan Airlines (JAL) and American Airlines (AA) requested that the compliance time in paragraph (g) of the proposed AD be extended from 60 months to 84 months. JAL suggested that, due to Boeing's manufacturing schedule for the kits, Boeing might not manufacture an adequate number of kits within the proposed compliance time. AA stated that extending the compliance time would allow operators to perform the modification during regularly scheduled heavy maintenance checks, thereby reducing the financial burden on operators.

We disagree with the requests. In developing an appropriate compliance time for this action, we considered the urgency of the unsafe condition along with the practical aspect of accomplishing the required modification at a time corresponding to the normal scheduled maintenance for most operators. According to the manufacturer, an adequate number of modification kits will be available to modify the affected fleet within the proposed compliance time. However, under the provisions of paragraph (i) of this SNPRM, we will consider requests for approval of an extension of the compliance time if sufficient data are submitted to substantiate that the new compliance time would provide an acceptable level of safety. We have not changed this SNPRM in this regard.

Request To Clarify Service Information Requirements

AA requested that we clarify that data notes (b) and (d) to Figure 1 of Boeing Service Bulletin 737-25-1707, dated September 24, 2015, can be complied with in accordance with an operator's procedures. AA noted paragraph 3.B.1.b. of the Accomplishment Instructions of Boeing Service Bulletin 737-25-1707, dated September 24, 2015, which requires the installation of new lanyards in accordance with Figure 1 of the service information, is a Required for Compliance (RC) step. AA added that data notes (b) and (d) to Figure 1 of Boeing Service Bulletin 737-25-1707, dated September 24, 2015, provide latitude when the operator has an accepted alternative procedure by using the term “refer to.”

We agree to clarify that the operator is allowed latitude in accomplishing work steps that use the term “refer to.” If a step is marked RC and a procedure or document may be followed to accomplish an action (e.g., the design approval holder's procedure or document may be used, but an FAA-accepted procedure could also be used), the appropriate terminology to use to cite the procedure or document is “refer to . . . as an accepted procedure.” We have not changed this SNPRM in this regard.

Request To Add Airplanes to the Applicability

United Airlines (UAL) noted that the proposed AD did not refer to the PSUs on Model 757-200 and -300 airplanes, which can have the same part numbers as the airplanes addressed by the proposed AD. UAL stated that operators who operate both of these fleet types need to review the risk of having both pre- and post-AD parts in their inventory. UAL added that they will mitigate the risk of potential parts intermingling by modifying their Model 757-200 and -300 airplanes with the same PSU modification.

We infer that UAL requests that Model 757-200 and -300 series airplanes should be included in the applicability of this proposed AD. We agree to investigate whether a similar unsafe condition exists on Model 757-200 and -300 series airplanes. We will take appropriate action based on the result of that investigation. However, delaying this SNPRM in order to determine if Model 757 airplanes should be added to the applicability would be inappropriate given that we have determined that an unsafe condition exists and that the modifications must be done to ensure continued safety. We have not changed this SNPRM in this regard.

Request To Change Text To Match the Service Information

Boeing requested that we change wording in the proposed AD that discusses “. . . removing the existing lanyard and installing two new lanyards. . .” to instead read “. . . replacing the existing lanyard and installing two new lanyards. . . .” Boeing stated that the proposed text more accurately describes the modification required by the service bulletin.

We agree with the request. We have updated the wording of the applicable sentence in the Discussion and Related Service Information under 1 CFR part 51 sections of this SNPRM.

Request To Clarify Language Describing What Prompted the AD

Boeing requested that the word “incidents” be changed to “accidents” in language describing what prompted the proposed AD. Boeing noted that the events in which PSUs became detached were accidents, not incidents, as defined by the NTSB and International Civil Aviation Organization (ICAO) Annex 13.

We agree to make this change, which will more accurately define these events according to industry standards. We have updated the Discussion section and paragraph (e) of this SNPRM to reflect this change.

Request To Refer to New Service Information

Boeing requested that we update the proposed AD to refer to Boeing Service Bulletin 737-25-1707, Revision 1, dated May 18, 2018, which was recently released. Boeing stated that the service bulletin would be revised to include the 737NG Boeing Business Jet (BBJ) aircraft effectivity blocks, which were omitted in the original revision of the service bulletin.

We agree with the commenter's request. Boeing Service Bulletin 737-25-1707, Revision 1, dated May 18, 2018, adds airplanes to the effectivity, adds a new measurement of the torsion spring of the lanyard assembly, and clarifies the instructions for attaching the lanyard assembly torsion spring to the PSU rail. For these reasons, we have updated this SNPRM to refer to Boeing Service Bulletin 737-25-1707, Revision 1, dated May 18, 2018.

Related Service Information Under 1 CFR Part 51

We reviewed Boeing Service Bulletin 737-25-1707, Revision 1, dated May 18, 2018. This service information describes procedures for modifying the PSUs and life vest panels by replacing the existing inboard lanyard and installing two new lanyards on the outboard edge of the PSUs and life vest panels, measuring the distance between the hooks of the torsion spring of the lanyard assembly, replacing any discrepant lanyard assemblies, and re-identifying serviceable lanyard assemblies. This service information is reasonably available because the interested parties have access to it through their normal course of business or by the means identified in the ADDRESSES section.

FAA's Determination

We are proposing this AD because we evaluated all the relevant information and determined the unsafe condition described previously is likely to exist or develop in other products of the same type design. Certain changes described above expand the scope of the NPRM. As a result, we have determined that it is necessary to reopen the comment period to provide additional opportunity for the public to comment on this SNPRM.

Proposed Requirements of This SNPRM

This SNPRM would require accomplishment of the actions identified as “RC” (required for compliance) in the Accomplishment Instructions of Boeing Service Bulletin 737-25-1707, Revision 1, dated May 18, 2018, described previously, except as discussed under “Differences Between this SNPRM and the Service Information,” and except for any differences identified as exceptions in the regulatory text of this proposed AD. For information on the procedures and compliance times, see this service information at http://www.regulations.gov by searching for and locating Docket No. FAA-2016-9189.

Differences Between This SNPRM and the Service Information

The effectivity of Boeing Service Bulletin 737-25-1707, Revision 1, dated May 18, 2018, is limited to Model 737-600, -700, -700C, -800, -900, and -900ER series airplanes, line numbers 1 through 6009, without a Boeing Sky Interior (BSI). However, the applicability of this proposed AD includes all Boeing Model 737-600, -700, -700C, -800, -900, and -900ER series airplanes without a BSI. Because the affected lanyard assemblies are rotable parts, we have determined that these parts could later be installed on airplanes that were initially delivered with acceptable lanyard assemblies, thereby subjecting those airplanes to the unsafe condition. This difference has been coordinated with Boeing.

Costs of Compliance

We estimate that this proposed AD affects 2,015 airplanes of U.S. registry. We estimate the following costs to comply with this proposed AD:

Estimated Costs
Action | Labor cost | Parts cost | Cost per product | Cost on U.S. operators
Inspection and modification | Up to 75 work-hours × $85 per hour = Up to $6,375 | Up to $11,760 | Up to $18,135 | Up to $36,542,025

According to the manufacturer, some or all of the costs of this proposed AD may be covered under warranty, thereby reducing the cost impact on affected individuals. We do not control warranty coverage for affected individuals. As a result, we have included all known costs in our cost estimate.

Authority for This Rulemaking

Title 49 of the United States Code specifies the FAA's authority to issue rules on aviation safety. Subtitle I, section 106, describes the authority of the FAA Administrator. “Subtitle VII: Aviation Programs” describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes to the Director of the System Oversight Division.

Regulatory Findings

We determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Is not a “significant rule” under the DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2016-9189; Product Identifier 2016-NM-114-AD.

(a) Comments Due Date

We must receive comments by October 29, 2018.

(b) Affected ADs

None.

(c) Applicability

This AD applies to all The Boeing Company Model 737-600, -700, -700C, -800, -900, and -900ER series airplanes, certificated in any category, without a Boeing Sky Interior (BSI).

(d) Subject

Air Transport Association (ATA) of America Code 25, Equipment/furnishings.

(e) Unsafe Condition

This AD was prompted by reports of passenger service units (PSUs) becoming detached from the supporting airplane structure in several Model 737 series airplanes during survivable accidents. We are issuing this AD to address PSUs and life vest panels detaching from the supporting airplane structure, which could lead to passenger injuries and impede passenger and crew egress during evacuation.

(f) Compliance

Comply with this AD within the compliance times specified, unless already done.

(g) Required Actions

Within 60 months after the effective date of this AD, do all applicable actions identified as “RC” (required for compliance) in, and in accordance with, the Accomplishment Instructions of Boeing Service Bulletin 737-25-1707, Revision 1, dated May 18, 2018.

(h) Parts Installation Prohibition

As of the applicable time specified in paragraph (h)(1) or (h)(2) of this AD, no person may install on any airplane a PSU or life vest panel, unless the lanyard assembly has been updated as required by paragraph (g) of this AD.

(1) For airplanes that have PSUs or life vest panels without the updated lanyard assemblies installed: After modification of the airplane as required by this AD.

(2) For airplanes that have PSUs or life vest panels with the updated lanyard assemblies installed: As of the effective date of this AD.

(i) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (j)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO Branch, FAA, to make those findings. To be approved, the repair method, modification deviation, or alteration deviation must meet the certification basis of the airplane, and the approval must specifically refer to this AD.

(4) For service information that contains steps that are labeled as Required for Compliance (RC), the provisions of paragraphs (i)(4)(i) and (i)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(j) Related Information

(1) For more information about this AD, contact Scott Craig, Aerospace Engineer, Cabin Safety and Environmental Systems Section, FAA, Seattle ACO Branch, 2200 South 216th St., Des Moines, WA 98198; phone and fax: 206-231-3566; email: michael.s.craig@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this referenced service information at the FAA, Transport Standards Branch, 2200 South 216th St., Des Moines, WA. For information on the availability of this material at the FAA, call 206-231-3195.

Issued in Des Moines, Washington, on August 29, 2018.
Jeffrey E. Duven,
Director, System Oversight Division, Aircraft Certification Service.

[FR Doc. 2018-19838 Filed 9-13-18; 8:45 am]

BILLING CODE 4910-13-P